DEPARTMENT OF THE INTERIOR

Bureau of Indian Affairs

Indian Gaming

AGENCY: Bureau of Indian Affairs, Interior.

ACTION: Notice of Approved Tribal—State Compact Amendment.

SUMMARY: This notice publishes approval of the 2009 Amendments to the Stockbridge-Munsee Community (“Tribe”) and the State of Wisconsin Gaming Compact of 1992, as Amended in 1998 and 2003.

DATES: Effective Date: August 19, 2009.

FOR FURTHER INFORMATION CONTACT: Paula L. Hart, Acting Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Amendment allows the Tribe to expand the pool of prospective lenders for construction or improvements to a Tribal gaming facility from State or federally chartered banks to include other federally recognized tribes.

Dated: July 31, 2009.
George T. Skibine,
Acting Principal Deputy, Assistant Secretary—Indian Affairs.

[FR Doc. E9-19887 Filed 8-18-09; 8:45 am]

BILLING CODE 4310-4N-P